DEPARTMENT OF HEALTH AND HUMAN SERVICES

Health Resources and Services Administration

Agency Information Collection Activities: Proposed Collection: Public Comment Request Information Collection Request Title: Teaching Health Centers Graduate Medical Education Program Cost Evaluation, OMB No. 0906—XXXX—New

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than June 29, 2020.

ADDRESSES: Submit your comments to paperwork@hrsa.gov.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the information request collection title for reference.

Information Collection Request Title: Teaching Health Centers Graduate Medical Education Program Cost Evaluation, OMB No. 0906-XXXX—New.

Abstract: The Teaching Health Center Graduate Medical Education (THCGME) program, authorized by Section 340H of the Public Health Service Act, was established by Section 5508 of Public Law (Pub. L.) 111-148. The Bipartisan Budget Act of 2018 (Pub. L. 115-123) provided continued funding for the THCGME program for fiscal years 2018 and 2019 and the Coronavirus Aid, Relief, and Economic Security Act extends funding for Fiscal Year (FY) 2020 for the first two months of FY 2021 (until November 30, 2020).

Need and Proposed Use of the Information: The THCGME program awards payment for both direct and indirect expenses to support training for primary care residents in community-based ambulatory patient care settings. Direct medical expense payments are designed to compensate eligible teaching health centers (THC) for those expenses directly associated with sponsoring approved graduate medical residency training programs, while indirect medical expense payments are intended to compensate for the additional costs of training residents in such programs. The primary goals of this program are to increase the production of primary care providers who are better prepared to practice in community settings, particularly with underserved populations, and improve the geographic distribution of primary care providers.

The statute requires the Secretary of HHS (the Secretary) to determine an appropriate THCGME program payment for indirect medical expenses (IME) as well as to update, as deemed appropriate, the per resident amount used to determine the Program's payment for direct medical expenses (DME). To inform these determinations and to increase understanding of this model of residency training, the George Washington University, under contract with HRSA, is conducting an evaluation of the costs associated with training residents in the THC model. George Washington University has developed a standardized THC Costing Instrument to gather data from all THCGME programs which they will use to gather costing information related to both DME and IME. The information gathered in the THC Costing Instrument includes, but is not limited to, resident and faculty full-time equivalents salaries and benefits, residency administration costs, educational costs, residency clinical operations and administrative costs, patient visits and clinical revenue generated by medical residents, financial reports, as well as general program information to understand the characteristics of the THCGME program and sponsoring institutions that are involved in residency training.

HRSA is collecting costing information related to both DME and IME in an effort to establish a THC's total cost of running a residency program, to assist the Secretary in determining an appropriate update to the per resident amount used to calculate the payment for DME and an appropriate IME payment. The described data collection activities will serve to inform these statutory requirements for the Secretary in a uniform and consistent manner.

Likely Respondents: The likely responders to the THC Costing Instrument are THCGME program award recipients.

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Teaching Health Center Costing Instrument | 56 | 1 | 56 | 10 | 560
Total | 56 |  | 56 |  | 560

HRSA specifically requests comments on (1) The necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2020-09172 Filed 4-29-20; 8:45 am]

BILLING CODE 4165-15-P